COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) to the Procurement List that will be furnished by nonprofit agencies employing persons who are blind or have other severe disabilities, and deletes product(s) and service(s) previously furnished by such agencies.

DATES: Comments must be received on or before: April 18, 2021.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) listed below from nonprofit agencies employing persons who are blind or have other severe disabilities.

The following product(s) are proposed for addition to the Procurement List for production by the nonprofit agencies listed:

Product(s)

NSN(s)—Product Name(s):

MR 10788—Super Sifter, Includes Shipper 20788

MR 10792—Twin Juicer, Includes Shipper 20792

MR 10794—Mini Garden Colander, Includes Shipper 20794

Designated Source of Supply: Winston-Salem Industries for the Blind, Inc., Winston-Salem, NC

Contracting Activity: Military Resale-Defense Commissary Agency

Deletions

The following product(s) and service(s) are proposed for deletion from the Procurement List:

Product(s)

NSN(s)—Product Name(s):

7510-01-664-8782—DAYMAX System, 2020 Calendar Pad, Type I

7510-01-664-8817—DAYMAX System, 2020, Calendar Pad, Type II

Designated y Source of Supply: Anthony Wayne Rehabilitation Ctr for Handicapped and Blind, Inc., Fort Wayne, IN

Contracting Activity: GSA/FAS ADMIN SVCS ACQUISITION BR(2, NEW YORK, NY

Service(s)

Service Type: Publication File Maintenance/NEPIS website

Mandatory for: Environmental Protection Agency, Cincinnati, OH

Designated Source of Supply: Clovernook Center for the Blind and Visually Impaired, Cincinnati, OH

Contracting Activity: ENVIRONMENTAL PROTECTION AGENCY, US ENVIRONMENTAL PROTECTION AGENCY

Service Type: Administrative/General Support Services

Mandatory for: Department of the Army: 5111 Leesburg Pike, Room 538, Falls Church, VA

Designated Source of Supply: Columbia Lighthouse for the Blind, Washington, DC

Contracting Activity: DEPT OF THE ARMY, W40M RHCO-ATLANTIC USAHCA

Service Type: Custodial and Grounds Maintenance Services

Mandatory for: Department of Veterans Affairs, US Veterans Outreach Center, Roanoke, VA

Designated Source of Supply: Goodwill Industries of the Valleys, Inc., Roanoke, VA

Contracting Activity: VETERANS AFFAIRS, DEPARTMENT OF, 246-NETWORK CONTRACTING OFFICE 6

Service Type: Laundry Service

Mandatory for: Department of Veterans Affairs, VA Medical Center, Iowa City, IA

Designated Source of Supply: Genesis Development, Jefferson, IA

Contracting Activity: VETERANS AFFAIRS, DEPARTMENT OF, 636-NEBRASKA WESTERN-IOWA

Michael R. Jurkowski,
Deputy Director, Business & PL Operations.

[FR Doc. 2021-05777 Filed 3-18-21; 8:45 am]

BILLING CODE 6353-01-P